DEPARTMENT OF THE TREASURY

Treasury Advisory Committee on Commercial Operations of the U.S. Customs Service

AGENCY: Departmental Offices, Treasury.

ACTION: Notice of meeting and announcement of membership.

SUMMARY: This notice announces the date, time, and location for the first meeting of the eighth renewed term of the Treasury Advisory Committee on Commercial on Commercial Operations (COAC), announcement of members, and the provisional agenda for consideration by the Committee.

DATES: The next meeting of the Treasury Advisory Committee on Commercial Operations of the U.S. Customs Service will be held on Friday, January 24, 2003, at 9 a.m. at the Department of the Treasury, in the Cash Room, located at 15th Street and Pennsylvania Avenue, NW., Washington, DC. (Main entrance off of Pennsylvania Avenue) The duration of the meeting will be approximately four hours, starting at 9 a.m.

Membership: The twenty (20) members for the eighth term of COAC are:

Sandra M. Fallgatter, JC Penny Purchasing Corp.

Carol Fuchs, Katten, Muchin Zaris, & Rosemman

Dennis Heck, Yamaha Corp. of America

Michael D. Laden, Target Customs Brokers, Inc.

Arthur Litman, Tower Group

James Finnegan, Kulicke & Soffa

Angela Gitten, Miami International Airport

D. Scott Johnson, Gap, Inc.

Marian Ladner, Strasburger and Price

Mary Jo Muoio, Barthco International, Inc.

Peterson, John F., C.H. Powell Company

Norman Schenk, United Parcel Service

Sandra Scott, Roadway Express

Renee Stein, Microsoft Corporation

Thomas G. Travis, Sandler, Travis & Rosenberg

Karen Phillips, Canadian National

Robert Schueler, Jr., Delphi Corporation

Kevin M. Smith, General Motors Corp.

Katherine M. Terricciano, Philips Electronics N. America

Tim Van Oost, BP

FOR FURTHER INFORMATION CONTACT: Helen Belt, Tariff and Trade Specialist (Regulatory, Tariff, and Trade Enforcement), Office of the Under Secretary (Enforcement), telephone—(202) 622-0230.

At this meeting, the Advisory Committee is expected to pursue the following agenda. The agenda may be modified prior to the meeting.

Agenda:

(1) Customs Business.

(2) Customs Trade Partnership Against Terrorism, 24-hr. Manifest Rules, Customs Structure in Department of Homeland Security.

(3) Merchandise Processing Fee; Proper Deduction of Freight & Other Costs from Customs Value.

(4) OR&R.

(5) Committee Administration.

(6) Agenda Items for Next Meeting.

SUPPLEMENTARY INFORMATION: The meeting is open to the public; however, participation in the Committee's deliberations is limited to Committee members, Customs and Treasury Department staff, and persons invited to attend the meeting for special presentations. A person other than an Advisory Committee member who wishes to attend the meeting should contact Theresa Manning at (202) 622-0220 or Helen Belt at (202) 622-0230 for pre-clearance.

Dated: December 19, 2002.
Timothy E. Skud,
Deputy Assistant Secretary, (Regulatory, Tariff, and Trade Enforcement).

[FR Doc. 02-32612 Filed 12-24-02; 8:45 am]

BILLING CODE 4810-25-M